DEPARTMENT OF ENERGY

Office of Science; Fusion Energy Sciences Advisory Committee

AGENCY: Department of Energy.

ACTION: Notice of open meeting

SUMMARY: This notice announces a meeting of the Fusion Energy Sciences Advisory Committee. The Federal Advisory Committee Act (Pub. L. 92-463, 86 Stat. 770) requires that public notice of these meetings be announced in the Federal Register.

DATES: Tuesday, November 14, 2000, 9:00 a.m. to 6:00 p.m.; Wednesday, November 15, 2000, 9:00 a.m. to 12:00 p.m.

ADDRESSES: Bethesda Ramada Hotel, Embassy III, 8400 Wisconsin Avenue, Bethesda, Maryland.

FOR FURTHER INFORMATION CONTACT: Albert L. Opdenaker, Office of Fusion Energy Sciences; U.S. Department of Energy; 19901 Germantown Road; Germantown, MD 20874-1290; Telephone: 301-903-4927.

SUPPLEMENTARY INFORMATION:

Purpose of the Meeting

The purpose of the meeting is to complete work on the charge, dated March 24, 2000, to review the draft report prepared by the Integrated Program Planning Activity (IPPA) Working Group. In addition, the Committee will receive and plan for carrying out two new charges, one to review the theory program and one to address issues associated with burning plasma physics.

Tentative Agenda

Tuesday, November 14, 2000

• Address by Dr. Dresselhaus

• Ethics Briefing for New Members

• FY 2001 Budget

• Status of Integrated Program Plan (IPPA) Report

• IPP Brochure

• Discussion of Theory Program Review Charge

• Public Comments

• Adjourn

Wednesday, November 15, 2000

• Discussion of Burning Plasma Physics Charge

• Public Comments

• Adjourn

Public Participation

The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes

We will make the minutes of this meeting available for public review and copying within 30 days at the Freedom of Information Public Reading Room; IE-190; Forrestal Building; 1000 Independence Avenue, SW.; Washington, DC, between 9:00 a.m. and 4:00 p.m., Monday through Friday, except Federal holidays.

Issued at Washington, D.C., on October 23, 2000.
Rachel M. Samuel,
Deputy Advisory Committee Management Officer.

[FR Doc. 00-27540 Filed 10-25-00; 8:45 am]

BILLING CODE 6450-01-P